DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that a collection of information has been approved by the Office of Management and Budget (OMB) under the Paperwork Reduction Act of 1995 (44 U.S.C. 3501 et seq.) (PRA 95) and 5 CFR 1320 for the Application for EFAST Electronic Signature and Codes for EFAST Transmitters and Software Developers (Form EFAST-1). This notice announces the OMB approval number and expiration date.

FOR FURTHER INFORMATION CONTACT: Address requests for copies of the information collection request (ICR) or additional comments on the ICR to Gerald R. Lindrew, U.S. Department of Labor, Pension and Welfare Benefits Administration, 200 Constitution Avenue, NW., Room N-5647, Washington, DC 20210. Telephone: (202) 219-4782. This is not a toll-free number.

SUPPLEMENTARY INFORMATION: On March 9, 2000, PWBA published a notice in the Federal Register (65 FR 12577) announcing its intent to request renewal under the PRA of the Application for EFAST Electronic Signature and Codes for EFAST Transmitters and Software Developers. On September 25, 2000, OMB renewed its approval of the information request under OMB control number 1210-0117. The approval expires on March 3, 2002.

Under 5 CFR 1320.5(b), an Agency may not conduct or sponsor, and a person is not required to respond to, a collection of information unless the collection displays a valid control number.

Dated: September 27, 2000.
Gerald B. Lindrew,
Deputy Director, Office of Policy and Research, Pension and Welfare Benefits Administration.

[FR Doc. 00-25231 Filed 9-29-00; 8:45 am]

BILLING CODE 4510-29-M